NATIONAL AERONAUTICS AND SPACE ADMINISTRATION

[Notice (06-072)]

Government-Owned Inventions Available for Licensing

AGENCY: National Aeronautics and Space Administration.

ACTION: Notice of availability of inventions for licensing.

SUMMARY: The inventions listed below assigned to the National Aeronautics and Space Administration, have been filed in the United States Patent and Trademark Office, and are available for licensing.

DATES: September 26, 2006.

FOR FURTHER INFORMATION CONTACT: Robert M. Padilla, Patent Counsel, Ames Research Center, Code 202A-4, Moffett Field, CA 94035-1000; telephone (650) 604-5104; fax (650) 604-2767.

NASA Case No. ARC-14743-3: Compensation for Thermal Expansion Differences and Thermal Shock Effects in a Thermal Protection System;

NASA Case No. ARC-15566-2: Coated or Doped Carbon Nanotube Network Sensors as Affected by Environmental Parameters And Elapsed Time;

NASA Case No. ARC-15684-1: Interactive Inventory Monitoring;

NASA Case No. ARC-15792-1: Control of Diameter and Chirality of Nanostructures;

NASA Case No. ARC-15820-1: Resistive Switching Memory Element Using a Phase Change Nanomaterial;

NASA Case No. ARC-15314-2: Carbon Nanotube Growth Density Control.

Dated: September 19, 2006.
Keith T. Sefton,
Deputy General Counsel, Administration and Management.

[FR Doc. E6-15689 Filed 9-25-06; 8:45 am]

BILLING CODE 7510-13-P